DEPARTMENT OF ENERGY

Federal Energy Regulatory Commission

Notice of Application Tendered for Filing with the Commission and Soliciting Additional Study Requests

February 1, 2001.

Take notice that the following hydroelectric application has been filed with the Commission and is available for public inspection:

a. Type of Application: Exemption for a small existing hydroelectric power project that has an installed capacity of 5 megawatts or less, from licensing under the Federal Power Act and

b. Project No.: P-11870-000.

c. Date filed: January 8, 2001.

d. Applicant: Goodrich Falls Hydro Electric Company.

e. Name of Project: Goodrich Falls Project.

f. Location: On the Ellis River, in the Town of Bartlett, Carroll County, New Hampshire. The project would not use federal lands.

g. Filed Pursuant to: Public Utility Regulatory Policies Act of 1978, 16 USC 2705 and 2708.

h. Applicant Contact: Ms. Maureen Winters, Project Manager, Kleinschmidt Associates, Energy & Water Resources Consultants 75 Main Street, Pittsfield Maine 04967, (207) 487-3328.

i. FERC Contact: John Ramer, (202) 219-2833, John.Ramer@ferc.fed.us.

j. Deadline for filing additional study requests: March 29, 2001.

All documents (original and eight copies) should be filed with: David P. Boerger, Secretary, Federal Energy Regulatory Commission, 888 First Street, NE, Washington, DC 20426. Comments and protests may be filed electronically via the internet in lieu of paper. See 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy to the document on that resource agency.

k. The application is not ready for environmental analysis at this time.

1. Project Description: The Goodrich Falls Project consists of: (1) An existing 157-foot-long and 25-foot-high dam with an integrated 18 foot by 23 foot concrete intake; (2) a 4.5-foot-diameter, 150-foot-long steel penstock; (3) an existing 2.1-acre, 920-foot-long by 100-foot-wide reservoir with an average 5 foot and a maximum gross storage capacity of 2.1-acre-feet; (4) a 25-foot by 30 foot concrete powerhouse containing one generating unit with a total installed capacity of 550 kilowatts; (5) an existing 250-foot-long transmission line; and (6) apurtenant facilities. The project is estimated to generate an average of 2 million kilowatthours annually. The dam and existing project facilities are owned by the applicant.

m. A copy of the application is available for inspection and reproduction at the Commission's Public Reference Room, located at 888 First Street, NE, Room 2-A, Washington, DC 20426, or by calling (202) 208-1371. The application may be viewed on http://www.ferc.fed.us/online/rims.htm (call (202) 208-2222 for assistance). A copy is also available for inspection and reproduction at the address in item h above.

David P. Boergers,
Secretary.

[FR Doc. 01-3152 Filed 2-6-01; 8:45 am]

BILLING CODE 6717-01-M